DEPARTMENT OF TRANSPORTATION

National Highway Traffic Safety Administration

[Docket No. NHTSA 02-13571]

Motor Vehicle Safety: Reimbursement Prior to Recall

AGENCY: National Highway Traffic Safety Administration (NHTSA), Department of Transportation.

ACTION: Request for public comment on a revision to an approved collection of information.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register notice with a 60-day comment period was published on October 16, 2002 (67 FR 63960).

DATES: Comments must be submitted on or before April 9, 2004.

FOR FURTHER INFORMATION CONTACT: George Person at the National Highway Traffic Safety Administration, Office of Defects Investigation, NVS-215, 400 Seventh Street, SW., Room 6240, Washington, DC 20590, phone 202-366-5210.

SUPPLEMENTARY INFORMATION:

Title: Defect and Noncompliance Notification.

OMB Number: 2127-0004.

Type of Request: Revision of currently approved collection.

Abstract: On October 17, 2002, NHTSA published a Final Rule (67 FR 64049) implementing section 6(b) of the Transportation Recall Enhancement, Accountability, and Documentation (TREAD) Act. Under this rule, motor vehicle and motor vehicle equipment manufacturers are required to include, in their programs to remedy a safety-related defect or a noncompliance with a Federal motor vehicle safety standard (safety recall), a plan for reimbursing owners for the cost of a remedy incurred within a reasonable time before the manufacturer's notification of the defect or noncompliance, and to notify owners affected by the safety recall of their eligibility for reimbursement. The rule allows manufacturers to submit general reimbursement plans that may be incorporated into defect and noncompliance information reports submitted to NHTSA pursuant to 49 CFR part 573 (part 573 reports) by reference rather than providing detailed plans to NHTSA for each safety recall. Specific information regarding a particular safety recall, such as the beginning and ending dates for the reimbursement period, must be submitted for each safety recall as part of the manufacturer's part 573 report. This revision adds the burden of providing this information to the currently approved burden of 15,844 hours for providing all other information about the defect or noncompliance required by 49 CFR part 573.

Affected Public: All manufacturers of motor vehicles and motor vehicle equipment that conduct safety recall campaigns would be required to comply with the reporting requirements. Based on recent history, we estimate that fewer than 500 safety recall campaigns will be conducted annually by no more than 170 different manufacturers.

Estimated Total Annual Burden: In order to provide the required information, manufacturers that conduct recalls must prepare a reimbursement plan and submit it to NHTSA. Ordinarily, we expect that this will consist of a general plan and supplemental information specific to each recall. We estimate that preparing the general plan would require 8 hours. Further, we estimate that no more than one hour would be required to include the additional information about a particular recall into individual Part 573 Reports. Since there are estimated to be 170 manufacturers that will submit 573 Reports annually and since there are estimated to be 500 recalls annually, the annual burden hours required to submit the plan would be 1,860 hours ((8x170)+(1x500)). Also, there will be additional burden associated with the third party information included in the notification letter sent to owners, since a sentence or two advising the owners of the possibility that they may be eligible for reimbursement must be added to the notification letter. We estimate that less than one hour per recall will be necessary or 500 hours (500x1) to provide this information annually. The total additional annual burden hours for this revision to the information collection is therefore 2,360 hours.

ADDRESSES: Send comments, within 30 days, to the Office of Information and Regulatory Affairs, Office of Management and Budget, 725 17th Street, NW., Washington, DC 20503, Attention NHTSA Desk Officer.

Comments Are Invited On: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication.

Issued in Washington, DC, on March 4, 2004.
Kenneth N. Weinstein,
Associate Administrator for Enforcement.

[FR Doc. 04-5352 Filed 3-9-04; 8:45 am]

BILLING CODE 4910-59-P